DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Report of Building or Zoning Permits Issued for New Privately-Owned Housing Units.

Form Number(s): C-404.

OMB Control Number: 0607-0094.

Type of Request: Extension of a currently approved collection.

Burden Hours: 17,594.

Number of Respondents: 19,425.

Average Hours per Response: 9 minutes.

Needs and Uses: The Census Bureau is requesting a three-year extension of a currently approved collection of the Form C-404, otherwise known as the Building Permits Survey (BPS). The key estimates from the survey are the numbers of new housing units authorized by building permits; data are also collected on the valuation of the housing units.

The Census Bureau produces statistics used to monitor activity in the large and dynamic construction industry. Given the importance of this industry, several of the statistical series have been designated as Principal Economic Indicators. Two such indicators are directly dependent on the key estimates from the BPS: (1) New Residential Construction (which includes Housing Units Authorized by Building Permits, Housing Starts, and Housing Completions), and (2) New Residential Sales. These statistics help state, local, and federal governments, as well as private industry, analyze this important sector of the economy. The building permit series are available monthly based on a sample of building permit offices, and annually based on the entire universe of permit offices. Published data from the survey can be found on the Census Bureau's Web site at www.census.gov/permits.

The Census Bureau collects these data primarily by mail using the Form C-404 or online using an online version of the same questionnaire. Some data are also collected via receipt of electronic files. Form C-404 requests information on the number and valuation of new residential housing units authorized by building permits.

The Census Bureau uses the Form C-404 to collect data that provide estimates of the number and valuation of new residential housing units authorized by building permits. About one-half of the permit offices are requested to report monthly. The remaining offices are surveyed once per year. We use the data, a component of the index of leading economic indicators, to estimate the number of housing units authorized, started, completed, and sold (single-family only). The Census Bureau also uses these data to select samples for its demographic surveys. In addition, the Census Bureau uses the detailed geographic data in the development of annual population estimates that are used by government agencies to allocate funding and other resources to local areas. Policymakers, planners, businesses, and others use the detailed geographic data to monitor growth and plan for local services, and to develop production and marketing plans. The BPS is the only source of statistics on residential construction for states and smaller geographic areas.

Affected Public: State, local, or Tribal governments.

Frequency: Monthly and annually.

Respondent's Obligation: Voluntary.

Legal Authority: Title 13 U.S.C. 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: January 18, 2013.
Glenna Mickelson,
Management Analyst, Office of the Chief Information Officer.

[FR Doc. 2013-01481 Filed 1-24-13; 8:45 am]

BILLING CODE 3510-07-P